DEPARTMENT OF HOMELAND SECURITY

[Docket No. DHS-2019-0003]

Homeland Security Advisory Council

AGENCY: Office of Partnership and Engagement (OPE), Department of Homeland Security (DHS).

ACTION: Notice of open teleconference federal advisory committee meeting.

SUMMARY: The Homeland Security Advisory Council (“HSAC” or “Council”) will meet via teleconference on February 28, 2019. The meeting will be open to the public.

DATES: The Council conference call will take place from 2:00 p.m. to 4:00 p.m. EDT on Thursday, February 28, 2019. Please note that the meeting may end early if the Council has completed its business.

ADDRESSES: The HSAC meeting will be held via teleconference. Members of the public interested in participating may do so by following the process outlined below (see “Public Participation”). Written comments must be submitted and received by Tuesday, February 26, 2019 to Friday, March, 29, 2019. Comments must be identified by Docket No. DHS-2019-0003 and may be submitted by one of the following methods:

• Federal eRulemaking Portal: http://www.regulations.gov. Follow the instructions for submitting comments.

• Email: HSAC@hq.dhs.gov. Include Docket No. DHS-2019-0003 in the subject line of the message.

• Fax: (202) 282-9207. Include Mike Miron and the Docket No. DHS-2019-0003 in the subject line of the message.

• Mail: Homeland Security Advisory Council, Attention Mike Miron, Department of Homeland Security, Mailstop 0445, 245 Murray Lane SW, Washington, DC 20528.

Instructions: All submissions received must include the words “Department of Homeland Security” and “DHS-2019-0003,” the docket number for this action. Comments received will be posted without alteration at http://www.regulations.gov, including any personal information provided.

Docket: For access to the docket to read comments received by the Council, go to http://www.regulations.gov, search “DHS-2019-0003,” “Open Docket Folder” and provide your comments.

FOR FURTHER INFORMATION CONTACT: Mike Miron at HSAC@hq.dhs.gov or at (202) 447-3135.

SUPPLEMENTARY INFORMATION: Notice of this meeting is given under Section 10(a) of the Federal Advisory Committee Act (FACA), Public Law 92-463 (5 U.S.C. Appendix), which requires each FACA committee meeting to be open to the public.

The Council provides organizationally independent, strategic, timely, specific, actionable advice, and recommendations to the Secretary of Homeland Security on matters related to homeland security. The Council is comprised of leaders of local law enforcement, first responders, Federal, State, and local government, the private sector, and academia.

The agenda for the meeting is as follows: The Council will receive briefings from senior officials, and receive progress updates from the CBP Families and Children Care Panel, Countering Foreign Influence, Emerging Technologies, and the State, Local, Tribal, and Territorial Cybersecurity Subcommittees.

Participation: Members of the public will be in listen-only mode. The public may register to participate in this Council teleconference via the following procedures. Each individual must provide his or her full legal name and email address no later than 5:00 p.m. EDT on Tuesday, February 26, 2019 to Mike Miron of the Council via email to HSAC@hq.dhs.gov or via phone at (202) 447-3135. The conference call details will be provided to interested members of the public after the closing of the public registration period and prior to the start of the meeting.

For information on services for individuals with disabilities, or to request special assistance at the meeting, contact Mike Miron at HSAC@hq.dhs.gov or (202) 447-3135 as soon as possible.

Information on Services for Individuals with Disabilities: For information on facilities or services for individuals with disabilities, or to request special assistance during the teleconference contact Mike Miron at (202) 447-3135.

Dated: February 5, 2019.
Mike Miron,
Deputy Executive Director, Homeland Security Advisory Council, DHS.

[FR Doc. 2019-01683 Filed 2-7-19; 8:45 am]

BILLING CODE 9110-9B-P